DEPARTMENT OF THE INTERIOR

Fish and Wildlife Service

[FWS-R8-NWRS-2013-0036; FXRS12610800000-134-FF08RSFC00]

South Farallon Islands Invasive House Mouse Eradication Project; Farallon National Wildlife Refuge, California; Revised Draft Environmental Impact Statement

AGENCY: Fish and Wildlife Service, Interior.

ACTION: Notice of availability; request for public comment.

SUMMARY: We, the U.S. Fish and Wildlife Service (Service), advise the public that we are issuing a revised Draft Environmental Impact Statement (revised DEIS) for the South Farallon Islands Invasive House Mouse Eradication Project on the Farallon National Wildlife Refuge, CA. If you have previously submitted comments, please do not resubmit them, because we have already incorporated them in the public record and will fully consider them in our final EIS.

DATES: To ensure consideration, please send your written comments on or before December 9, 2013. Comments submitted electronically using the Federal eRulemaking Portal (see ADDRESSES section, below) must be received by 11:59 p.m. Eastern Time on the closing date.

ADDRESSES: Document Availability: You may obtain copies of the documents in the following places:

• Internet: http://www.regulations.gov (Docket Number FWS-R8-NWRS-2013-0036).

• In-Person:

San Francisco Bay National Wildlife Refuge Complex Headquarters, 1 Marshlands Road, Fremont, CA 94555.

San Francisco Public Library, 100 Larkin Street, San Francisco, CA 94102.

Submitting Comments: You may submit written comments by one of the following methods:

• Electronically: Go to the Federal eRulemaking Portal: http://www.regulations.gov. In the Search box, enter FWS-R8-NWRS-2013-0036, which is the docket number for this notice. Then, click on the project link to access documents and submit a comment. To access the revised DEIS, click on Open Docket Folder.

• By hard copy: Submit by U.S. mail or hand-delivery to: Public Comments Processing, Attn: FWS-R8-NWRS-2013-0036; Division of Policy and Directives Management; U.S. Fish and Wildlife Service; 4401 N. Fairfax Drive, MS 2042-PDM; Arlington, VA 22203.

We request that you send comments only by the methods described above. We will post all information received on http://www.regulations.gov. This generally means that we will post any personal information you provide us (see the Public Comments section below for more information).

FOR FURTHER INFORMATION CONTACT: Gerry McChesney, Refuge Manager, 510-792-0222, ext. 222 (phone).

SUPPLEMENTARY INFORMATION: On August 16, 2013, we published a Federal Register notice (78 FR 50082) announcing the availability of the DEIS for a proposed project to eradicate non-native invasive house mice from the South Farallon Islands, part of the Farallon National Wildlife Refuge off the coast of California. We are now issuing a revised DEIS, to clarify language on the population status of the ashy storm-petrel (Oceanodroma homochroa) and revise the assessment of impacts to the ashy storm-petrel under the no action alternative.

For more information on the proposed eradication of invasive house mice from the South Farallon Islands, see our August 16, 2013, notice (78 FR 50082).

Public Comments

We request that you send comments only by one of the methods described in ADDRESSES. If you submit a comment via http://www.regulations.gov, your entire comment—including your personal identifying information—will be posted on the Web site. We will post all hardcopy comments on http://www.regulations.gov as well. If you submit a hardcopy comment that includes personal identifying information, you may request at the top of your document that we withhold this information from public review. However, we cannot guarantee that we will be able to do so. Comments and materials we receive, as well as documents associated with the notice, will be available for public inspection on http://www.regulations.gov at Docket No. FWS-R8-NWRS-2013-0036.

Authority

We provide this notice under the National Environmental Policy Act (NEPA) (42 U.S.C. 4371 et seq.) and its' implementing regulations (40 CFR 1506.6).

Alexandra Pitts,
Acting Regional Director, Pacific Southwest Region.

[FR Doc. 2013-24954 Filed 10-24-13; 8:45 am]

BILLING CODE 4310-55-P